DEPARTMENT OF COMMERCE

National Oceanic and Atmospheric Administration

[Docket No.000817236-1268-03; I.D. 100401C]

General Grant Administration Terms and Conditions of the Coastal Ocean Program: Announcement of Opportunity

AGENCY: Center for Sponsored Coastal Ocean Research/Coastal Ocean Program (CSCOR/COP), National Ocean Service (NOS), National Oceanic and Atmospheric Administration (NOAA), Commerce.

ACTION: Notice for financial assistance and funding opportunity for project grants and cooperative agreements.

SUMMARY: It is the intent of NOAA/NOS/CSCOR/COP to provide direct financial assistance in the form of discretionary research grants and cooperative agreements under its program for the management of coastal ecosystems. This document describes the general grant administration terms and conditions of the CSCOR/COP program for fiscal year 2002. Additionally, this document solicits proposals under program elements, (b) Cumulative Coastal Impacts and (d) Synthesis and Ecological Forecasting, described in this notice. It is the CSCOR/COP’s intent to also issue supplemental Announcements of Opportunities (AOs) to request proposals on specific projects throughout the year on an as-needed basis. Any future AOs will be issued through the Federal Register. Information regarding these announcements will be made available on the CSCOR/COP Internet Site and CSCOR/COP’s e-mail list. These announcements will provide specific program descriptions.

CSCOR/COP supports research on critical issues that exist in the Nation’s estuaries, coastal waters, and the Great Lakes and translates research findings into accessible information for coastal managers, planners, lawmakers, and the public. CSCOR/COP’s projects are multi-disciplinary, large in scale, and long in duration (usually 3 to 5 years.) Projects covering more than 1 year will usually be funded on an annual basis.

DATES: Effective December 4, 2001. Proposals for multiple stressors projects will be due by 3 p.m. e.s.t. on February 19, 2002. Proposals for synthesis projects will be due by 3 p.m. e.s.t. on March 5, 2002. The deadline for receipt of proposals is firm. Note that late-arriving applications provided to a delivery service, on or before the day prior to the closing date, with delivery guaranteed before 3 p.m. e.s.t. on the closing date, will be accepted for review if the applicant can document that the application was provided to the delivery service with delivery to the address listed below (see ADDRESSES) guaranteed prior to the specified closing date and time; and in any event, the proposals are received in the COP office no later than 2 business days following the closing date.

ADDRESSES: Center for Sponsored Coastal Ocean Research/Coastal Ocean Program, National Oceanic and Atmospheric Administration, 1305 East West Highway, Room 8243, Silver Spring, MD 20910-3281. Proposals for synthesis should be mailed to the address above, attn. SYNTHESIS. Proposals for multiple stressor studies should be mailed to the address above, ATTN: MULTISTRESS.

FOR FURTHER INFORMATION CONTACT: Technical information for synthesis proposals: Elizabeth Turner, (603) 862-4680, e-mail: Elizabeth.Turner@noaa.gov.

Technical information for cumulative stressors: Kenric Osgood, (301) 713-3338/x163, e-mail: Kenric.Osgood@noaa.gov.

Business Management Information: Leslie McDonald, CSCOR/COP Grants Administrator,(301)713-3338/x155, e-mail Leslie.McDonald@noaa.gov.

SUPPLEMENTARY INFORMATION:

Electronic Access

NOAA and COP Standard Form Applications with instructions are accessible on the COP Internet site (http://www.cop.noaa.gov) under the COP Grants Support Section, Part D, Application Forms for Initial Proposal Submission. Forms may be viewed, and in most cases, filled in by computer. All forms must be printed, completed, and mailed to CSCOR/COP with original signatures. Blue ink for original signatures is recommended but not required. If you are unable to access this information, you may call CSCOR/COP at 301-713-3338 to leave a mailing request.

General information about the COP’s projects and publications is also available on the CSCOR/COP Internet Site. For information concerning the NOAA Coastal Ocean Program Decision Analysis Series reports, see: http://www.cop.noaa.gov/pubs/das.html.

Background

Program Description

NOAA’s CSCOR/COP provides predictive capability for managing coastal ecosystems through sponsorship of research. CSCOR/COP seeks to deliver the highest quality science in a timely manner for important coastal decisions. It supports research on critical issues that exist in the Nation's estuaries, coastal waters, and Great Lakes and translates its findings into accessible information for coastal managers, planners, lawmakers, and the public. The COP also supports educational activities at the graduate and undergraduate level to facilitate the development of qualified professionals in the fields of coastal science, management, and policy.

Benefits of the CSCOR/COP

Continued population pressures on the Nation’s coastal areas and ongoing changes in the environment will continue to stress our coastal waters, bays, estuaries, and the Great Lakes. CSCOR/COP has focused on developing information for longer range United States management and policy at large and complex scales. CSCOR/COP research will help the United States respond to the major challenges of the next century and to balance the needs of economic growth with those of conserving the environment and its coastal resources.

Program Elements

The CSCOR/COP Program Elements are listed here. Funding for some programs may be limited to ongoing projects. Prospective applicants are urged to check the CSCOR/COP Internet Site listed earlier under SUPPLEMENTARY INFORMATION: Electronic Access, and future Federal Register notices for other possible funding announcements in Program Elements (b) and (c), listed below in this document, that may appear at later dates.

(a) Coastal Ecosystem Oceanography. CSCOR/COP supports the conservation and management of marine ecosystems through sponsorship of improved ecological and oceanographic predictions for resource management. Studies focus on (1) understanding critical processes that control the abundance, distribution, and replenishment of fishery resources; (2) determining critical habitat processes that influence fishery ecosystems; and (3) quantifying ecosystem species interactions to develop models that can be used in management decisions. Current efforts support studies dealing with Bering Sea pollock, cod and haddock on Georges Bank, and salmon in the Pacific Northwest.

(b) Cumulative Coastal Impacts. CSCOR/COP sponsors a series of regional watershed projects on the causes and impacts of multiple stresses on coastal ecosystems. Studies focus on (l) developing indicators of stress; (2) predicting impacts of multiple stressors (3) valuing natural resources in ecological and economical terms; and (4) predicting the outcomes of management strategies. Current efforts are located in Chesapeake Bay, Florida Bay and the Keys, the Great Lakes, coastal areas of South Carolina and the Pacific Northwest, and coral reefs in Florida and Hawaii.

At this time, proposals are requested describing comprehensive studies of up to 5 years in duration to investigate the impacts of multiple stresses in estuarine, coastal, or Great Lakes ecosystems. The CSCOR/COP anticipates supporting an integrated multi-investigator, interdisciplinary project that will develop capabilities for understanding, predicting, and managing the effects of multiple stressors in coastal systems. A separate announcement of availability of funding for proposals in coral reef research (under CSCOR/COP’s Coral Reef Regional Ecosystem Study program) may be released later this year.

Many of the estuaries, bays, and large lakes of the United States suffer the impacts of multiple anthropogenic stressors. The most pervasive stressors being nutrient enrichment (leading to eutrophication), habitat modification (including benthic, water column, and watershed changes), resource exploitation, invasive species, and toxic contamination. In addition to anthropogenic impacts, short-term and mesoscale environmental variability also impact coastal ecosystems. Traditional management approaches have largely targeted single sources of stress (e.g., nitrogen, phosphorus, toxic compounds, habitat modification, invasive species, etc.). Scientists and resource managers are becoming increasingly aware that management practices must address the interaction of multiple stressors, and must be integrated over the entire ecosystem (i.e., from watershed to receiving water bodies).

Research Objectives

The objectives that should be addressed in projects proposed under this Program Element are: (1) quantification of the effects of eutrophication in concert with other anthropogenic and natural stressors; (2) identification of indicators of cumulative stress at individual, population, and ecosystem levels; (3) evaluation of the effectiveness of potential mitigation strategies, and (4) Extension of the approaches, results, models and techniques developed in this project to other coastal ecosystems.

Desirable research programs will: (1) conduct integrated studies of the effects of multiple stressors on ecological processes within a system; (2) examine the role of land use and watershed loadings of these stressors; (3) model the ecological effects of natural and/or anthropogenic stresses from the organismal to ecosystem level; and (4) conduct an economic evaluation of present and proposed management practices to mitigate coastal environmental stress.

Prospective applicants should refer to Part I, Requirements for Proposal Submission, which appear later in this notice.

(c) Harmful Algal Blooms (HABs) and Hypoxia. The CSCOR/COP sponsors studies on the ecology and oceanography of harmful algal blooms (HABs), focusing on identifying and modeling linkages between the physiology, ecology, behavior and toxicity of HABs and local/regional circulation patterns and water quality. Results from these studies will improve the general knowledge of problematic species in the U.S. coastal waters and provide a foundation for development of regional HAB forecasting capabilities. The latter eventually providing a means to assess the effectiveness of prevention, control, and mitigation strategies developed in the programs. Current regional efforts are located in the Gulf of Maine, eastern Long Island, the coastal regions of the mid-Atlantic States, and the western coast of Florida.

Eutrophication and resulting hypoxia have become common problems affecting living marine resources and recreational uses of coastal waters. The CSCOR/COP supports research examining the influences of nutrient loading, physical forcing, climate change, and extent of hypoxic conditions (i.e., the “dead zone”) on the ecosystem and fisheries of the northern Gulf of Mexico.

Pending congressional appropriations, separate program announcements for research opportunities in the ecology and oceanography of harmful algal blooms, and the monitoring HABs and HAB event response may be issued later this year.

(d) Synthesis and Ecological Forecasting. The CSCOR/COP is committed to providing decision makers with high quality scientific information and predictive tools in formats appropriate to promoting near-term improvements in coastal ecosystem management. This announcement solicits proposals for projects of 1 to 2 years in duration to produce comprehensive syntheses of coastal ecosystem research with the overall goal of developing ecological forecasting capabilities.

The CSCOR/COP and other Federal agencies continue to support multi-disciplinary coastal ecosystem studies to improve our understanding of the physical, biological, and chemical processes in these complex systems. In general, these types of large scale projects have been committed to producing data and information products such as technical reports, peer-reviewed publications, data bases, and numerical and conceptual models. However, the delivery of comprehensive information products and technologies to the appropriate management community for application to specific coastal management issues remains the challenge to scientific programs that have been largely focused on research.

The next step in ecosystem research is the development of ecological forecasts, i.e., the capability to predict the effects and interactions of environmental variability and anthropogenic stressors on coastal ecosystems, and the impacts of management actions on ecosystems and coastal economies.

This announcement requests proposals for projects concentrating exclusively on the synthesis of results and information generated by coastal ecosystem studies that have concluded, or are near completion. The overall goal should be to advance and/or develop predictive capabilities, i.e., ecological forecasts.

The accurate prediction of ecosystem parameters or conditions will facilitate improved resource management decisions. Some examples of forecasting needs include: predictive models of impacts of multiple stressors on coastal systems, fisheries, and economies; onset, duration, and impacts of hypoxic and/or anoxic conditions; vulnerability to, and impacts of invasive species on, specific ecosystems; occurrence and impacts of emerging finfish, shellfish, and aquatic plant diseases.

For the purpose of this announcement, coastal ecosystem studies are defined as multi-disciplinary, multi-year research programs that have examined the effects of multiple anthropogenic stressors and/or natural variability and events on coastal ecosystems. The COP is especially interested in syntheses of coastal ecosystem studies that consider one or more of the following study components: coastal stressors and impacts (including land use and watershed loadings to receiving water body); coastal processes and their influences on regional or national marine resources; environmental valuation; economic impact analysis; and risk assessment. Comparative analyses among different coastal systems will be considered, as well as detailed syntheses that are more regionally based. All proposed comparative analyses, syntheses, and forecasts must have clear application to one or more coastal resource management issues, and be tractable within the time and budget proposed.

Some examples of synthesis products and ecological forecasts are: case studies of regions with explicit applications to important management issues; applications of ecosystem models to management-generated questions; risk analysis of management scenarios; and region-specific management recommendations based on study results. Active transfer of technology to managers involving specialized workshops, alternative media, or other approaches will also be considered.

Proposals should provide detailed descriptions of the management issue(s) to be addressed, the target audience or users of the synthesis, results and information to be integrated, approaches to synthesis, specific information products, and predictive/forecasting capability to be developed. Proposals must describe research results to be used and how that information will be accessed. Synthesis could include the identification of and justification for appropriate variables that need to be included in long-term monitoring for the purposes of ecological forecasting. Where appropriate, letters indicating access to data, results, and information not yet in the public domain and generated by investigators not named in the proposal should be addended. Explicit identification of the end user group(s) is required. Active participation of one or more members of the management (or other user community) is also required; either as a co-investigator or official collaborator.

The funding associated with this announcement is intended to support higher order synthesis activities, not basic data interpretation, or sample collection and analysis. It is assumed that the subject ecosystem study has been completed or is very near completion, and that basic results and conclusions have been documented and/or published. No field work, monitoring, laboratory analyses, or other new data acquisition will be considered.

Part I: Schedule and Proposal Submission

The guidelines for proposal preparation provided here are mandatory for all proposals submitted to CSCOR/COP in response to this, and all AOs. Proposals received after the published deadline or proposals that deviate from the prescribed format will be returned to the sender without further consideration. This announcement and additional background information are available on the COP Internet Site listed earlier under SUPPLEMENTARY INFORMATION: Electronic Access.

Proposals should describe activities for the full project period, as specified in the Program Element description. Proposals should be written to allow adequate review of the details of such things as identification of the issue or problem, scientific objectives, methodology and approaches to synthesis, description of information products and applications, and integration and/or applications to other projects or programs. Upon conclusion of external peer and panel merit review, meritorious proposals will be recommended for funding.

Full Proposals

Letters of intent and/or partial proposals are not requested under this notice. Applications submitted in response to this announcement require an unbound original proposal and 19 copies at time of submission. This includes color or high-resolution graphics, unusually-sized materials (not 8.5 inches x 11 inches, or 21.6 cm x 28 cm), or otherwise unusual materials submitted as part of the proposal. For color graphics, submit either color originals or color copies. The stated requirements for the number of original proposal copies provide for a timely review process because of the large number of technical reviewers. Facsimile transmissions and electronic mail submission of full proposals will not be accepted.

The project description section should not exceed 20 pages. Page limits are inclusive of figures and other visual materials, but exclusive of references and milestone chart (as specified in Required Elements). The type must be a clear and readily legible 12-point size with no more than 6 lines in a vertical space of 1 inch. Margins at the top, bottom, and each side of all pages should be a minimum of 1 inch (2.5 cm).

Required Elements

All recipients are to follow closely the instructions and requirements in the preparation of the standard NOAA Application Forms and Kit requirements listed in Part II: General Grant Terms and Conditions, paragraph (9) of this document. Each proposal must also include the following ten elements:

(1) Standard Form 424. At time of proposal submission, all applicants shall submit the Standard Form, SF-424 (Rev 7-97), “Application for Federal Assistance,” to indicate the total amount of funding proposed for the whole project period. This form is to be the cover page for the original proposal and all requested copies. Multi-institutional proposals must include signed SF-424 forms from all institutions requesting funding.

(2) Title page. The title page identifies the project's title starting with the appropriate acronym (SYNTHESIS or MULTSTRESS, for the two programs solicited in this announcement) a short title (<50 characters), the proposed project period, and the lead principal investigator's name, affiliation, complete address, phone, FAX, and E-mail information. The requested funding for each fiscal year should be included on the title page. The title page should be signed by the lead principal investigator. Multi-investigator proposals must include the names and affiliations of each investigator on the title page. Multi-institution proposals must also identify the lead investigator from each institution and the requested funding for each fiscal year for each institution on the title page, but no signatures are needed on the title page from the additional institutions. Lead investigator and separate budget information is not needed on the title page for institutions that are proposed to received funds through a subcontract to the lead institution.

(3) One-page abstract/project summary. The Project Summary (Abstract) Form, which is to be submitted at time of application, shall include an introduction of the problem, rationale, scientific objectives and/or hypotheses to be tested, and a brief summary of work to be completed. The prescribed COP format for the Project Summary Form can be found on the CSCOR/COP Internet site under the Grants Support Section.

The summary should appear on a separate page, headed with the proposal title, institution(s), principal investigator(s), total proposed cost, and project period, and should be written in the third person. The summary is used to help compare proposals quickly and allows the applicants to summarize these key points in their own words.

(4) Statement of work/project description. The project description section should not exceed 20 pages. The page limit is inclusive of figures and other visual materials, but exclusive of references and milestone chart (as described here). Project management should be clearly defined with descriptions of the responsibilities and contributions of each principal investigator (if more than one). It is important to provide a full scientific justification for the proposed research and approach; do not simply reiterate justifications presented in this document. This section should include the following:

(a) The objectives for the period of proposed work and the expected results and significance.

(b) The relation to the present state of knowledge in the field and relation to previous work and work in progress by the proposing principal investigator(s);

(c) A discussion of how the proposed project lends value to CSCOR/COP Program Element objectives;

(d) Specific plans for making information products available to the scientific and coastal management communities;

(e) A clear statement describing project management and identification of the contributions and responsibilities of each investigator within a team (if more than one principal investigator;

(f) Potential coordination with other investigators or stakeholders;

(g) Intent to adhere to NOAA's specific requirements that environmental data be submitted to the National Oceanographic Data Center.

(5) References cited. Reference information is required. Each reference must include the names of all authors in the same sequence in which they appear in the publication, the article title, volume number, page numbers, and year of publication. While there is no established page limitation, this section should include bibliographic citations only and should not be used to provide parenthetical information outside of the 20-page project description.

(6) Milestone chart. Time lines of major tasks covering the duration of the proposed project.

(7) Budget. At the time of original application, all proposers are required to submit a COP Summary Proposal Budget Form for each fiscal year increment (i.e., 2002, 2003, etc.). Multi-institution proposals must include budget forms from each institution. This is in lieu of the Standard Form 424A, “Budget Information (Non-Construction).”

Use of the COP Summary Proposal Budget form will provide for a detailed annual budget and the level of detail required by the COP program staff to evaluate the effort to be invested by investigators and staff on a specific project. This form can be found on the COP Internet Site under Grants Support, Section D; or may be requested by contacting the COP Grants Office listed earlier in this document under FOR FURTHER INFORMATION CONTACT.

All applicants shall include a budget justification that supports all proposed budget object class categories. The COP will review the proposed budgets to determine the necessity and adequacy of proposed costs for accomplishing the objectives of the proposed grant. The SF-424A, Budget Information (Non-Construction) Form, is not required for proposal submission and shall be requested from only those applicants subsequently recommended for funding after the competitive review process has been completed.

(8) Biographical sketch. All principal and co-investigators must provide two-page summaries that include the following:

(a) A listing of professional and academic essentials and mailing address;

(b) A list of up to five publications most closely related to the proposed project and five other significant publications. Additional lists of publications, lectures, etc., should not be included;

(c) A list of all persons (including their organizational affiliation) in alphabetical order who have collaborated on a project or publication within the last 48 months, including collaborators on the proposal and persons listed in the publications. If there are no collaborators, this should be so indicated;

(d) A list of persons (including their organizational affiliation) with whom the individual has had an association as thesis advisor or postdoctoral scholar sponsor;

(e) A list of the names and institutions of the individual’s own graduate and postgraduate advisors.

The material presented in (c, d, and e) is used to assist in identifying potential conflicts or bias in the selection of reviewers.

(9) Current and pending support. Describe all current and pending support for all principal and co-investigators, including subsequent funding in the case of continuing grants. All current support from whatever source (e.g., Federal, state or local government agencies, private foundations, industrial or other commercial organizations) must be listed. The proposed project and all other projects or activities requiring a portion of time of the principal investigator and co-investigators should be included, even if they receive no salary support from the project(s). The total award amount for the entire award period covered (including indirect costs) should be shown as well as the number of person-months per year to be devoted to the project, regardless of source of support.

(10) Proposal format and assembly. Clamp the original proposal in the upper left-hand corner, but leave it unbound. Use 1-inch (2.5-cm) margins at the top, bottom, left and right of each page. Use a clear and easily legible type face in standard 12-point size with no more than six lines in a vertical space of 1 inch. Print on one side of each page only. Proposals that deviate from the prescribed format will be returned to the sender without further consideration.

Part II: General Grant Terms and Conditions

(1) Program Authority(s). 16 U.S.C 1456c, 33 U.S.C 1121 et seq.; 33 U.S.C 883a et seq.; 33 U.S.C 1442; and Pub. L. 105-383.

(2) Catalog of Federal Domestic Assistance (CFDA): 11.478 Coastal Ocean Program.

(3) Funding Availability. On average, annual funding for each Announcement of Opportunity is approximately $l,000,000. Each CSCOR/COP project generally consists of several coordinated investigations with separate awards, ranging from $5,000 to $500,000. Actual funding levels will depend upon the final budget appropriations for the fiscal year. Future individual AOs will be released with specific applicable dollar amounts. It is anticipated that two to three synthesis proposals will be funded at approximately $700,000 per year for up to 2 years, and one to two multiple stressor projects will be funded at approximately $1,000,000 per year for up to 5 years.

The financial history of CSCOR/COP grants, interagency agreements, and intra-NOAA funding transfers is as follows: FY97 $10.00 million; FY98 $8.5 million; FY99 $8.5 million, FY00 $15 million, and FY01 $15.5 million. Publication of this notice does not obligate Commerce/NOAA to any specific award or to obligate any part of the entire amount of funds available. Recipients and subrecipients are subject to all Federal laws and agency policies, regulations, and procedures applicable to Federal financial assistance awards.

If an application for a financial assistance award is selected for funding, CSCOR/COP has no obligation to provide any additional prospective funding in connection with that award in subsequent years.

(4) Matching Requirements. None.

(5) Type of Funding Instrument. They are project grants and cooperative agreements, interagency agreements and transfers, and intra-NOAA funding transfers.

In an effort to maximize the use of limited resources, applications from non-Federal, non-NOAA Federal and NOAA applicants will be competed against each other. Research proposals selected for funding from non-Federal researchers will be funded through a project grant or cooperative agreement under the terms of this notice. Research proposals selected for funding from non-NOAA Federal applicants will be funded through an interagency transfer, provided legal authority exists for the Federal applicant to receive funds from another agency. PLEASE NOTE: Before non-NOAA Federal applicants may be funded, they must demonstrate that they have legal authority to receive funds from another Federal agency in excess of their appropriation. Because this announcement is not proposing to procure goods or services from the applicants, the Economy Act (31 U.S.C. Section 1535) is not an appropriate basis. Support may be solely through COP or partnered with other Federal offices and agencies.

(6) Eligibility Criteria. CSCOR/COP funding opportunities are open to all interested, qualified, non-Federal, and Federal researchers. Eligible applicants are institutions of higher education, other non-profits, state, local, and Indian Tribal Governments, and Federal agencies. Researchers must be affiliated with a not-for-profit institution, and proposals must be submitted through a not-for-profit institution. Non-Federal researchers should comply with their institutional requirements for proposal submission.

Non-NOAA Federal applicants will be required to submit certifications or documentation showing that they have specific legal authority to receive funds from the Department of Commerce (DOC) for this research. Foreign researchers must subcontract with United States proposers. Non-Federal researchers affiliated with NOAA-University Joint Institutes should comply with joint institutional requirements; they will be funded through grants either to their institutions or to joint institutes.

Proposals deemed acceptable from Federal researchers will be funded through a mechanism other than a grant or cooperative agreement, where legal authority allows for such funding. DOC requirements will prevail if there is a conflict between DOC requirements and institutional requirements.

(7) Award Period. Typically, CSCOR/COP’s projects average 1 to 5 years in length. Projects covering more than 1 year will typically be funded on an annual basis. Projects submitted under Program Element (b) can be up to 5 years in duration; projects submitted under Program Element (d) should be 1 to 2 years in duration.

(8) Application Forms. When applying for financial assistance under a published AO, applicants will be able to obtain both the standard NOAA application forms and COP-specific application forms at the COP Internet Site. Forms may be viewed and, in most cases, filled in by computer. All forms must be printed, completed, and mailed to CSCOR/COP with original signatures. Blue ink is suggested, but not required. If you are unable to access this information, you may also call (301)713-3338 to leave a mail request. At time of submission, the applicant will follow the proposal requirements presented in the funding announcement.

At time of original application for financial assistance, all proposers are required to submit the Standard Form 424 (Rev July 1997), “Application for Federal Assistance” and a COP Summary Proposal Budget Form for each fiscal year increment in lieu of the Standard Form 424A (Rev July 1997), “Budget Information for Non-Construction Programs.” Applicants shall also include a budget narrative/justification that supports all proposed budget categories. The SF-424A shall be requested only from those recipients subsequently recommended for award.

Multi-institution proposals must include COP Summary Proposal Budget Forms from each institution. Applications not adhering to these stated guidelines will be returned to the applicant without further review.

In addition, other forms required as part of a complete application package from only those recipients subsequently recommended for award include: the Standard Form 424-B, ”Assurances for Non-Construction Programs”; the CD-511, “Certifications Regarding Debarment, Suspension and Other Responsibility Matters; Drug-Free Workplace Requirements and Lobbying”; the CD-512, “Certification Regarding Debarment, Suspension, Ineligibility and Voluntary Exclusion-Lower Tier Covered Transactions and Lobbying” (this certification is to remain with the recipient and is not forwarded to the Grants Officer); and the SF-LLL,”Disclosure of Lobbying Activities” (if applicable).

(9) Project Funding Priorities. Priority considerations will be given to proposals that promote balanced coverage of the science objective stated in this and later AOs; avoid duplication of completed or ongoing work, and increase geographic diversity. Additional and/or other priorities may be detailed in other CSCOR/COP AOs.

(10) Evaluation Criteria. Unless otherwise stated in an individual funding announcement, the following criteria and evaluation weightings will be used for evaluating both solicited and unsolicited proposals:

(a) Scientific Merit (20 percent). Intrinsic scientific value of the proposed work and the likelihood that it will lead to fundamental advancements, new discoveries or will have substantial impact on progress in that field;

(b) Research Performance Competence (20 percent). Capability of the investigator and collaborators to complete the proposed work as evidenced by past research accomplishments, previous cooperative work, timely communication, and the sharing of findings, data, and other research products;

(c) Relevance (20 percent). Likelihood that the research will make substantial contributions or develop products leading to improved management of coastal resources;

(d) Technical Approach (20 percent). Presence of focused science objectives and completeness and efficiency of the strategy for making measurements and observations in support of the objectives. The approach is sound and logically planned throughout the cycle of the proposed work;

(e) Linkages (10 percent). Adequacy of connections to existing or planned studies, or demonstrated cooperative arrangements to provide or use data or other research results to achieve the objectives.

(f) Costs (10 percent): Adequacy of the proposed resources to accomplish the proposed work, and the appropriateness of the requested funding with respect to the total available funds.

(l1) Selection Procedures. All proposals will be evaluated and scored individually in accordance with the assigned weights of the above evaluation criteria by independent peer mail review and/or by independent peer panel review. Both Federal and non-Federal experts in the field may be used in this process. The peer mail reviewers will be several individuals with expertise in the subjects addressed by particular proposals. Each mail reviewer will see only certain individual proposals within his or her area of expertise, and score them individually on a scale of one to five, where scores represent respectively: Excellent (1), Very Good (2), Good (3), Fair (4), and Poor (5).

The peer panel will comprise 6 to 12 individuals, with each individual having expertise in a separate area, so that the panel as a whole, covers a range of scientific expertise. The panel will have access to all mail reviews of proposals, and will use the mail reviews in discussion and evaluation of the entire slate of proposals. No consensus advice will be given by the independent peer mail review or the review panel.

The program officer(s) will neither vote or score proposals as part of the independent peer panel nor participate in discussion of the merits of the proposal. Those proposals receiving an average panel score of “Fair” or “Poor” will not be given further consideration, and proposers will be notified of non-selection.

For the proposals rated by the panel as either “Excellent,” “Very Good,” or “Good”, the program officers will (a) select the proposals to be recommended for funding by applying the project funding priorities listed earlier in this section, paragraph (9) Project Funding Priorities; and specific objectives published in the AO; (b) determine the total duration of funding for each proposal; and (c) determine the amount of funds available for each proposal. As a result of consideration of the project funding priorities, awards may not necessarily be made in rank order. Recommendations for funding are then forwarded to the selecting official, the Director of CSCOR/COP.

Investigators may be asked to modify objectives, work plans or budgets, and provide supplemental information required by the agency prior to the award. When a decision has been made (whether an award or declination), verbatim anonymous copies of reviews and summaries of review panel deliberations, if any, will be made available to the proposer. Declined applications will be held in the CSCOR/COP for the required five years in accordance with the current retention requirements, and then destroyed.

(12) Award Conditions. Institutions accepting awards agree to meet programmatic award conditions as specified by NOAA and CSCOR/COP. Those conditions include:

(a) Submission of annual progress reports, comprehensive final reports, and semi-annual financial reports as outlined on the CSCOR/COP Internet Site.

(b) All environmental data and associated metadata furnished in electronic format to the National Oceanographic Data Center (NODC). Refer to (13) Other Requirements, paragraph (c), Data Archiving, referenced later in this document.

(c) All mathematical model code, parameters, and guidelines developed as a result of a CSCOR/COP award must be made available in electronic format to the CSCOR/COP Program Manager. Refer to (13) Other Requirements, paragraph (c), Data Archiving, referenced later in this document.

(d) Copies of all technical reports and publications resulting from a CSCOR/COP award will be forwarded to the CSCOR/COP.

(13) Other Requirements. (a) The Department of Commerce Pre-Award Notification Requirements for Grants and Cooperative Agreements contained in the Federal Register (66 FR 49917-49922, Volume 190, October 1, 2001) are applicable to this solicitation.

(b) Intergovernmental Review. Applications under this program are not subject to Executive Order l2372, “Intergovernmental Review of Federal Programs.” It has been determined that this notice is not significant for purposes of E.O. 12866. Because notice and comment are not required under 5 U.S.C. 553, or any other law, for this notice relating to public property, loans, grants benefits or contracts (5 U.S.C. 553(a)), a Regulatory Flexibility Analysis is not required and has not been prepared for this notice, 5 U.S.C. 603(a). It has been determined that this notice does not contain policies with Federalism implications as that term is defined in E.O. 13132.

(c) Data Archiving. Any data collected in projects supported by CSCOR/COP must be delivered to a National Data Center (NDC), such as the National Oceanographic Data Center (NODC), in an electronic format to be determined by the institution, the NODC, and Program Officer. It is the responsibility of the institution for the delivery of these data; the DOC will not provide additional support for delivery beyond the award. Additionally, all biological cultures established, molecular probes developed, genetic sequences identified, mathematical models constructed, or other resulting information products established through support provided by CSCOR/COP must be made available to the general research community at no or modest handling charge (to be determined by the institution, Program Officer, and DOC). For more details, refer to CSCOR/COP data policy posted at the COP home page.

(d) Please note that NOAA is developing a policy on internal overhead charges, NOAA scientists considering submission of proposals should contact the appropriate CSCOR/COP Program Manager for the latest information.

(e) This notification involves collection-of-information requirements subject to the Paperwork Reduction Act. The use of Standard Forms 424, 424A, 424B, and SF-LLL have been approved by the Office of Management and Budget (OMB) under control numbers 0348-0043, 0348-0044, 0348-0040 and 0348-0046.

The following requirements have been approved by OMB under control number 0648-0384; a Summary Proposal Budget Form (30 minutes per response), a Project Summary Form (30 minutes per response), a standardized format for the Annual Performance Report (5 hours per response), a standardized format for the Final Report (10 hours per response), and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.McDonald@noaa.gov. Copies of these forms and formats can be found on the COP home page under Grants Support sections, Parts D and F.

Notwithstanding any other provision of law, no person is required to respond to, nor shall any person be subject to a penalty for failure to comply with a collection of information subject to the requirements of the Paperwork Reduction Act, unless that collection displays a currently valid OMB control number.

Dated: November 28, 2001.
Jamison S. Hawkins,
Deputy Assistant Administrator for Ocean Services and Coastal Zone Management.

[FR Doc. 01-29996 Filed 12-3-01; 8:45 am]

BILLING CODE 3510-JS-S